DEPARTMENT OF JUSTICE

Notice of Lodging of Consent Decree Pursuant to the Clean Air Act

Notice is hereby given that a consent decree in United States v. Royal Oak Enterprises, Inc., Civil Action No. 99-1506-A (E.D. Va.) was lodged with the Court on June 23, 2000.

The proposed decree resolves the claims of the United States against Royal Oak Enterprises, Inc. under the Clean Air Act, 42 U.S.C. 7401, et seq., for civil penalties and injunctive relief to redress violations occurring at Royal Oak's Kenbridge, Virginia charcoal briquet manufacturing facility. Under the decree, Royal Oak Enterprises, Inc. is required to pay a civil penalty of $450,000 and is subjected to injunctive relief designed to ensure future compliance.

The Department of Justice will receive, for a period of thirty (30) days from the date of this publication, comments relating to the proposed consent decree. Comments should be address to: Office of the United States Attorney, Eastern District of Virginia, 2100 Jamieson Avenue, Alexandria, Virginia 22314, Attention: Richard W. Sponseller, Assistant United States Attorney, and should refer to United States v. Royal Oak Enterprises, Inc., Civil Action No. 99-1506-A (E.D. Va.), U.S. Attorney's Office File Number 1998-V-00570.

The proposed consent decree may be examined and copied at the Office of the United States Attorney for the Eastern District of Virginia, 2100 Jamieson Avenue, Alexandria, Virginia 22314; or at the Region III Office of the environmental Protection Agency, c/o Neil R. Bigioni, Assistant Regional Counsel, 1650 Arch Street, Philadelphia, PA 19103. A copy of the proposed consent decree may be obtained by mail from the Consent Decree Library, PO Box No. 7611, Washington DC 20044. In requesting a copy, please refer to the referenced case and enclose a check in the amount of $3.50 (25 cents per page reproduction costs), payable to the Consent Decree Library.

Richard W. Sponseller,
Assistant United States Attorney, Eastern District of Virginia.

[FR Doc. 00-18156 Filed 7-18-00; 8:45 am]

BILLING CODE 4410-15-M